DEPARTMENT OF JUSTICE

Antitrust Division

Notice Pursuant to the National Cooperative Research and Production Act of 1993—National Warheads and Energetics Consortium

Notice is hereby given that, on August 7, 2012, pursuant to Section 6(a) of the National Cooperative Research and Production Act of 1993, 15 U.S.C. 4301 et seq. (“the Act”), National Warheads and Energetics Consortium (“NWEC”) has filed written notifications simultaneously with the Attorney General and the Federal Trade Commission disclosing changes in its membership. The notifications were filed for the purpose of extending the Act's provisions limiting the recovery of antitrust plaintiffs to actual damages under specified circumstances. Specifically, Control Solutions, LLC, Aurora, IL; Tiburon Associates, Inc., Alexandria, VA; Streamline Automation, LLC (dba C3 Propulsion), Huntsville, AL; L-3 Communications Corporation-Brashear Division, Pittsburgh, PA; Knight's Armament Company, Titusville, FL; and JAK Tool and Model LLC, Cranberry, NJ, have been added as parties to this venture.

Also, Cyber Research, Inc., Belle Mead, NJ, has withdrawn as a party to this venture.

No other changes have been made in either the membership or planned activity of the group research project. Membership in this group research project remains open, and NWEC intends to file additional written notifications disclosing all changes in membership.

On May 2, 2000, NWEC filed its original notification pursuant to Section 6(a) of the Act. The Department of Justice published a notice in the Federal Register pursuant to Section 6(b) of the Act on June 30, 2000 (65 FR 40693).

The last notification was filed with the Department on May 7, 2012. A notice was published in the Federal Register pursuant to Section 6(b) of the Act on June 8, 2012 (77 FR 34067).

Patricia A. Brink,
Director of Civil Enforcement, Antitrust Division.

[FR Doc. 2012-21780 Filed 9-4-12; 8:45 am]

BILLING CODE 4410-11-P